TENNESSEE VALLEY AUTHORITY

Sunshine Act Meeting Notice

AGENCY HOLDING THE MEETING: Tennessee Valley Authority (Meeting No. 1542).

TIME AND DATE: 9 a.m. (CST), November 20, 2002, Mississippi State University, Hunter Henry Center, Barr Ave., Mississippi State, Mississippi.

STATUS: Open.

Agenda

Approval of minutes of meeting held on September 10, 2002.

New Business

Budget and Financing

A1. Retention of Net Power Proceeds and Nonpower Proceeds and Payments to the U.S. Treasury.

A2. Approval of tax-equivalent payments for Fiscal Year 2002 and estimated payments in Fiscal Year 2003.

B—Purchase Awards

B1. Contract with Computer Associates International, Inc., for software and maintenance of proprietary software.

C—Energy

C1. Contract with ABB, Inc., for extra-high voltage transformers.

C2. Contract with Motion Industries, Inc., for bearings and power transmission equipment.

C3. Contract with ADVATECH LLC to design, manufacture, deliver, and install gas desulfurization process equipment.

C4. Contract with Ingram Barge Company for barging services to Cumberland Fossil Plant.

C5. Contract with Canal Barge Company, Inc., for barging services to Colblert Fossil Plant.

C6. Contracts with Law Engineering and Environmental Services, Inc., and S&ME, Inc., for geotechnical and environmental services at various TVA locations.

E—Real Property Transactions

E1. Grant of a permanent easement to the Town of Dandridge, Tennessee, for a water and sewer line expansion affecting approximately 3.5 acres of land on Douglas Reservoir in Jefferson County, Tennessee, Tract No. XTDR-35U.

E2. Modification of certain deed restrictions affecting approximately 0.4 acre of former TVA land on Norris Reservoir in Union County, Tennessee, Tract No. XNR-232, S.2X.

E3. Grant of a permanent easement to Darlene Hester for a road access affecting approximately 0.3 acre of land on Little Bear Creek Reservoir in Franklin County, Alabama, Tract No. XTBCLR-3H.

E4. Grant of noncommercial, nonexclusive permanent easement to Riverbrook Shoreline Owners Association for construction and maintenance of recreational water-use facilities affecting approximately 4.7 acres of land on Fort Loudoun Reservoir in Blount County, Tennessee, Tract No. XTFL-132RE.

E5. Sale of a 30-year term commercial recreation easement to Corliss Smith (operator of Southlake RV Park) affecting approximately 11.2 acres of land on Fort Loudoun Reservoir in Knox County, Tennessee, Tract No. XFL-131RE.

F—Other

F1. Approval to file condemnation cases to acquire transmission line easements and rights-of-way affecting Tract Nos. EPH-54, -55, -55A, -56, -56B and -58, East Point-Hanceville Transmission Line, Cullman County, Alabama, and right to enter affecting Tract No. 2WCJR-1000TE, Waynesville-Clifton City Transmission Line, Wayne County, Tennessee.

Information Items

1. Approval of an amendment to the Trust Agreement between the TVA Retirement System Board of Directors and Fidelity Management Trust Company to eliminate the annual participant recordkeeping fee.

2. Approval of amendments to the Rules and Regulations of the TVA Retirement System and to the Provisions of the TVA Savings and Deferral Retirement Plan to provide System credit for certain lump-sum payments made to TVA employees in lieu of base wage or salary increases for FY 2003, and to provide System compliance with qualified domestic relations orders.

3. Approval of the TVA contribution rate to the TVA Retirement System for Fiscal Year 2003.

4. Approval of the filing of condemnation cases to acquire tree removal rights affecting Tract Nos. EPH-61, 61A-CR, and easements and rights-of-way affecting Tract Nos. EPH-15, -48, -66, and -71, East Point-Hanceville Transmission Line, Cullman County, Alabama, and Tract Nos. SBFP-36, -38, -40A, -45 (86/189 interest, -55 (403/1176 interest), -63, -75, (¾ interest), -76, -77C (107/108 interest), -85, and -86A (47/56 interest), Sebastopol Switching Station-Five Points, Scott County, Mississippi.

5. Approval of the filing of condemnation cases to acquire easements and rights of way affecting Tract Nos. CRF-3A, -3AA, and -4, Chickamauga\Ridgedale-Oglethorp Loop Into Hawthorn Substation Transmission Line, Hamilton County, Tennessee; Tract No. SBFP-6, Sebastopol Switching Station-Five Point Transmission Line, Scott County, Mississippi; and right to enter affecting Tract Nos. MECGM-1000TE, -1001TE, and -1002TE, Morgan Energy Center-General Motors Transmission Line, Limestone County, Alabama.

6. Approval of the appointment of Bill Forsyth of Murphy, North Carolina, to be a member of the Regional Resource Stewardship Council.

7. Approval of the sale of permanent and temporary construction easements for a water intake and discharge for water treatment facilities for Southeast Tissue Company, LLC, affecting approximately 2.7 acres of land on Pickwick Reservoir in Colbert County, Alabama, Tract No. XPR-4641E.

8. Approval of a public auction sale of the former Singleton Laboratory site consisting of approximately 3.4 acres of Fort Loudoun Reservoir land in Blount County, Tennessee, Tract No. XFL-133.

9. Approval of negotiated pay adjustments for Fiscal Years 2003, 2004, and 2005, covering TVA Police employees represented by the Law Enforcement Employees Association.

10. Approval of negotiated pay adjustments for Fiscal Year 2003 for custodial employees represented by Local 544, Service Employees' International Union, AFL-CIO.

11. Approval of negotiated adjustments to the pay plan for engineer, scientist, and technician employees represented by the Engineering Association, Inc., for Fiscal Years 2003, 2004, and 2005.

12. Approval of a new classification and Market Pricing pay plan and pay adjustments for employees represented by the Office and Professional Employees International Union for Fiscal Year 2003.

13. Approval of a contract with Bechtel Power Corporation for engineering services for the Browns Ferry Nuclear Plant Unit 1 recovery effort.

14. Approval of a delegation of authority for the Executive Vice President, Transmission/Power Supply Group, to execute the Public Power Regional Transmission Grid Coordination Agreement.

15. Approval of revised Dispersed Power Production Guidelines for TVA and distributors of TVA power.

16. Approval of an extension of temporary authority to waive the Enhanced Growth Credit Program requirement that a facility must first be shut down for at least 12 months before becoming eligible for the program.

17. Approval of a revision of the formula used to calculate credits under the Low Density Credit Program.

18. Approval of a delegation of authority to the President and Chief Operating Officer, or a designee, to approve a Power Purchase Agreement for green power to be supplied from a wind-powered generation expansion project on Buffalo Mountain in support of TVA's Green Power Switch Program.

19. Approval for the Senior Vice President of Procurement, or a designee, to enter into individual contracts and incremental changes of up to $30 million each for Browns Ferry Nuclear Plant Unit 1 materials and services through Fiscal Year 2007, with the total dollar amount of contacts entered into in any fiscal year not to exceed &250 million.

20. Approval of a grant of a 30-year term public recreation easement, with conditional option for renewals, to the City of Florence, Alabama, affecting approximately 27 acres of land on Pickwick Reservoir in Lauderdale County, Alabama, Tract N. XTWDNC-1RE.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: November 13, 2002.
Maureen H. Dunn,
General Counsel and Secretary.

[FR Doc. 02-29523 Filed 11-15-02; 3:33 pm]

BILLING CODE 8120-08-M